DEPARTMENT OF HOMELAND SECURITY

Federal Emergency Management Agency

44 CFR Part 64

[Docket ID FEMA-2012-0003; Internal Agency Docket No. FEMA-8267]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective Date: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
New Hampshire:
Berlin, City of, Coos County | 330029 | May 8, 1975, Emerg; June 15, 1982, Reg; February 20, 2013, Susp | Feb. 20, 2013 | Feb. 20, 2013.
Carroll, Town of, Coos County | 330030 | July 26, 1978, Emerg; April 15, 1986, Reg; February 20, 2013, Susp | ......do | Do.
Colebrook, Town of, Coos County | 330031 | July 18, 1975, Emerg; May 17, 1989, Reg; February 20, 2013, Susp | ......do | Do.
Columbia, Town of, Coos County | 330185 | May 19, 1977, Emerg; April 2, 1986, Reg; February 20, 2013, Susp | ......do | Do.
Dalton, Town of, Coos County | 330198 | December 15, 1986, Emerg; December 15, 1986, Reg; February 20, 2013, Susp | ......do | Do.
Dummer, Town of, Coos County | 330201 | July 20, 1993, Emerg; March 1, 1995, Reg; February 20, 2013, Susp | ......do | Do.
Errol, Town of, Coos County | 330206 | August 31, 1993, Emerg; June 1, 1995, Reg; February 20, 2013, Susp | ......do | Do.
Gorham, Town of, Coos County | 330032 | July 24, 1975, Emerg; April 1, 1981, Reg; February 20, 2013, Susp | ......do | Do.
Jefferson, Town of, Coos County | 330033 | June 3, 1977, Emerg; April 15, 1986, Reg; February 20, 2013, Susp | ......do | Do.
Lancaster, Town of, Coos County | 335277 | November 12, 1971, Emerg; April 13, 1973, Reg; February 20, 2013, Susp | ......do | Do.
Milan, Town of, Coos County | 330035 | May 12, 1983, Emerg; April 2, 1986, Reg; February 20, 2013, Susp | ......do | Do.
Northumberland, Town of, Coos County | 330036 | July 7, 1975, Emerg; May 4, 1989, Reg; February 20, 2013, Susp | ......do | Do.
Shelburne, Town of, Coos County | 330037 | April 7, 1976, Emerg; April 2, 1986, Reg; February 20, 2013, Susp | ......do | Do.
Stark, Town of, Coos County | 330038 | March 30, 1976, Emerg; April 2, 1986, Reg; February 20, 2013, Susp | ......do | Do.
Stewartstown, Town of, Coos County | 330194 | February 12, 1981, Emerg; March 1, 2000, Reg; February 20, 2013, Susp | ......do | Do.
Stratford, Town of, Coos County | 330039 | September 16, 1975, Emerg; April 18, 1983, Reg; February 20, 2013, Susp | ......do | Do.
Whitefield, Town of, Coos County | 330040 | December 31, 1981, Emerg; April 2, 1986, Reg; February 20, 2013, Susp | ......do | Do.
Region IV
Alabama:
Alabaster, City of, Shelby County | 010192 | December 13, 1974, Emerg; June 15, 1981, Reg; February 20, 2013, Susp | ......do | Do.
Birmingham, City of, Jefferson and Shelby Counties | 010116 | March 30, 1973, Emerg; March 16, 1981, Reg; February 20, 2013, Susp | ......do | Do.
Calera, City of, Chilton and Shelby Counties | 010373 | March 7, 1990, Emerg; May 1, 1995, Reg; February 20, 2013, Susp | ......do | Do.
Chelsea, City of, Shelby County | 010432 | N/A, Emerg; July 18, 2007, Reg; February 20, 2013, Susp | ......do | Do.
Columbiana, City of, Shelby County | 010449 | July 27, 2006, Emerg; September 29, 2006, Reg; February 20, 2013, Susp | ......do | Do.
Harpersville, Town of, Shelby County | 010293 | N/A, Emerg; July 16, 2007, Reg; February 20, 2013, Susp | ......do | Do.
Hoover, City of, Jefferson and Shelby Counties | 010123 | April 11, 1975, Emerg; February 4, 1981, Reg; February 20, 2013, Susp | ......do | Do.
Indian Springs Village, Town of, Shelby County | 010430 | N/A, Emerg; August 10, 1999, Reg; February 20, 2013, Susp | ......do | Do.
Montevallo, City of, Shelby County | 010349 | February 25, 1981, Emerg; March 16, 1981, Reg; February 20, 2013, Susp | ......do | Do.
Shelby County, Unincorporated Areas | 010191 | December 15, 1986, Emerg; December 15, 1986, Reg; February 20, 2013, Susp | ......do | Do.
Vestavia Hills, City of, Jefferson and Shelby Counties | 010132 | February 21, 1975, Emerg; January 2, 1981, Reg; February 20, 2013, Susp | ......do | Do.
Vincent, Town of, Shelby and Talladega Counties | 010292 | N/A, Emerg; August 31, 1998, Reg; February 20, 2013, Susp | ......do | Do.
Westover, Town of, Shelby County | 010451 | N/A, Emerg; March 25, 2008, Reg; February 20, 2013, Susp | ......do | Do.
Wilsonville, Town of, Shelby County | 010404 | October 27, 1993, Emerg; March 1, 1995, Reg; February 20, 2013, Susp | ......do | Do.
Kentucky:
Henderson, City of, Henderson County | 210109 | August 7, 1973, Emerg; June 15, 1978, Reg; February 20, 2013, Susp | ......do | Do.
Henderson County, Unincorporated Areas | 210286 | N/A, Emerg; April 10, 1991, Reg; February 20, 2013, Susp | ......do | Do.
Region VI
Oklahoma:
Cleveland County, Unincorporated Areas | 400475 | June 8, 1987, Emerg; June 1, 1989, Reg; February 20, 2013, Susp | ......do | Do.
Moore, City of, Cleveland County | 400044 | April 18, 1974, Emerg; December 2, 1980, Reg; February 20, 2013, Susp | ......do | Do.
Noble, City of, Cleveland County | 400045 | October 2, 1975, Emerg; July 2, 1981, Reg; February 20, 2013, Susp | ......do | Do.
Norman, City of, Cleveland County | 400046 | August 23, 1974, Emerg; November 1, 1979, Reg; February 20, 2013, Susp | ......do | Do.
Oklahoma City, City of, Canadian, Cleveland, McClain, Oklahoma and Pottawatomie Counties | 405378 | March 19, 1971, Emerg; July 14, 1972, Reg; February 20, 2013, Susp | ......do | Do.
Region VII
Iowa:
Belmond, City of, Wright County | 190303 | February 26, 2008, Emerg; March 1, 2011, Reg; February 20, 2013, Susp | ......do | Do.
Dows, City of, Wright County | 190305 | August 19, 2010, Emerg; N/A, Reg; February 20, 2013, Susp | ......do | Do.
Eagle Grove, City of, Wright County | 190928 | May 26, 1998, Emerg; September 4, 2003, Reg; February 20, 2013, Susp | ......do | Do.
Goldfield, City of, Wright County | 190584 | August 3, 2011, Emerg; N/A, Reg; February 20, 2013, Susp | ......do | Do.
Region IX
Arizona:
Bullhead City, City of, Mohave County | 040125 | May 6, 1974, Emerg; March 15, 1982, Reg; February 20, 2013, Susp | ......do | Do.
Fort Mojave Indian Tribe, Mohave County | 040133 | January 31, 1992, Emerg; March 18, 1996, Reg; February 20, 2013, Susp | ......do | Do.
Mohave County, Unincorporated Areas | 040058 | May 6, 1974, Emerg; March 15, 1982, Reg; February 20, 2013, Susp | ......do | Do.
*-do- = Ditto.
Code for reading third column: Emerg.—Emergency; Reg.—Regular; Susp.—Suspension.

Dated: January 15, 2013.
David L. Miller,
Associate Administrator, Federal Insurance and Mitigation Administration, Department of Homeland Security, Federal Emergency Management Agency.

[FR Doc. 2013-01623 Filed 1-25-13; 8:45 am]

BILLING CODE 9110-12-P